ENVIRONMENTAL PROTECTION AGENCY

[Regional Docket Nos. V-2015-2, FRL-9950-53-Region 5]

Clean Air Act Operating Permit Program; Action on Petition for Objection to State Operating Permit for Waupaca Foundry Plant 1

AGENCY: Environmental Protection Agency (EPA).

ACTION: Notice of final Order on petition to object to Clean Air Act Title V operating permit.

SUMMARY: This document announces that the Environmental Protection Agency (EPA) Administrator has denied a petition from Philip Nolan asking EPA to object to a Title V operating permit issued by the Wisconsin Department of Natural Resources (WDNR) to Waupaca Foundry Plant 1 (Waupaca). Sections 307(b) and 505(b)(2) of the Clean Air Act (Act) provide that a petitioner may ask for judicial review of those portions of the petition that EPA denies in the United States Court of Appeals for the appropriate circuit. Any petition for review shall be filed within 60 days from the date this notice appears in the Federal Register, pursuant to section 307 of the Act.

ADDRESSES: You may review copies of the final Order, the petition, and other supporting information at the EPA Region 5 Office, 77 West Jackson Boulevard, Chicago, Illinois 60604. If you wish to examine these documents, you should make an appointment at least 24 hours before the day you would like to visit. Additionally, the final Order for the Waupaca petition is available electronically at: https://www.epa.gov/title-v-operating-permits/title-v-petition-database.

FOR FURTHER INFORMATION CONTACT: Genevieve Damico, Chief, Air Permits Section, Air Programs Branch, Air and Radiation Division, EPA, Region 5, 77 West Jackson Boulevard AR-18J, Chicago, Illinois 60604, telephone (312) 353-4761.

SUPPLEMENTARY INFORMATION: The Act affords EPA a 45-day period to review and object, as appropriate, to Title V operating permits proposed by state permitting authorities. Section 505(b)(2) of the Act authorizes any person to petition the EPA Administrator within 60 days after the expiration of the EPA review period to object to a Title V operating permit if EPA has not done so. A petition must be based only on objections to the permit that were raised with reasonable specificity during the public comment period provided by the state, unless the petitioner demonstrates that it was impracticable to raise issues during the comment period, or the grounds for the issues arose after this period.

On July 1, 2015, EPA received a petition from Philip Nolan (Petitioner) requesting that EPA object to the Title V operating permit for Waupaca. The Petitioner alleged that the permit is not in compliance with the requirements of the Act. Specifically, the Petitioner alleged that: (1) The permit does not limit Hazardous Air Pollutant emissions to a concentration of 4.59 µg/m³, (2) the permit does not comply with Section 112 of the Act and the National Emission Standard for Hazardous Air Pollutants for the iron and steel foundry industry, (3) the EPA should conduct a residual risk and technology review, (4) the permit limits are insufficient to protect public health, (5) the modeling procedures used to determine public health risk were not correct, and (6) additional emissions control technology should be used.

On July 14, 2016, the Administrator issued an Order denying the petition. The Order explains the reasons behind EPA's conclusion.

Dated: August 1, 2016.
Robert A. Kaplan,
Acting Regional Administrator, Region 5.

[FR Doc. 2016-19027 Filed 8-9-16; 8:45 am]

BILLING CODE 6560-50-P